DEPARTMENT OF JUSTICE

Notice of Lodging of Proposed Consent Decree Under the Clean Air Act

On March 18, 2014, the Department of Justice lodged a proposed Consent Decree with the United States District Court for the Western District of Oklahoma in the lawsuit entitled United States, et al. v. El Dorado Chemical Company, et al., Civil Action No. 5:14-cv-00271-F.

In this action the United States, acting on behalf of the U.S. Environmental Protection Agency, and joined by the State of Alabama, the Alabama Department of Environmental Management, and the Oklahoma Department of Environmental Quality acting for the State of Oklahoma, filed a complaint under the Clean Air Act (“CAA”), 42 U.S.C. 7401 et seq., against El Dorado Chemical Company, Cherokee Nitrogen Company, and Pryor Chemical Company, the owners and operators of three nitric acid manufacturing facilities located respectively in El Dorado, Arkansas, Cherokee, Alabama, and Pryor, Oklahoma, seeking civil penalties and injunctive relief. The Complaint alleges that the Defendants constructed or made modifications to a total of six nitric acid plants, located across the three nitric acid manufacturing facilities, without first obtaining pre-construction permits and installing required pollution control equipment, in violation of: The CAA Nonattainment New Source Review, Prevention of Significant Deterioration, and Title V permitting requirement provisions, 42 U.S.C. 7470-7492, 7501-7511f, 7661-7661f; the CAA State Implementation Plans in Alabama, Arkansas, and Oklahoma, 42 U.S.C. 7410; and Subparts A and G of the CAA's New Source Performance Standards, 40 CFR 60.2, 60.70, 60.72, 60.73, and 60.82. The Complaint also alleges violations based on Oklahoma law at the Pryor, Oklahoma facility.

The Consent Decree resolves the claims in the Complaint and requires the Settling Defendants, who consist of the named Defendants, LSB Industries, Inc. (the named Defendant's parent company), and El Dorado Nitrogen, L.P. (an LSB Industries subsidiary), to pay a $725,000 civil penalty, of which $362,500 will go to the United States, $156,250 will go to the State of Alabama, and $206,250 will go to the State of Oklahoma. Additionally, under the Consent Decree the Settling Defendants will install or upgrade controls to reduce emissions of NOX and install or upgrade continuous emissions monitoring systems for all operating nitric acid plants at the Arkansas, Alabama, and Oklahoma facilities as well as at an additional facility in Baytown, Texas, operated by El Dorado Nitrogen, L.P. Finally, under the Consent Decree, the Settling Defendants will undertake an environmental mitigation project to remediate acidified soils and reforest land in Union County, Arkansas.

The publication of this notice opens a period for public comment on the Consent Decree. Comments should be addressed to the Assistant Attorney General, Environment and Natural Resources Division, and should refer to United States, et al. v. El Dorado Chemical Company, et al., D.J. Ref. No. 90-5-2-1-10311. All comments must be submitted no later than thirty (30) days after the publication date of this notice. Comments may be submitted either by email or by mail:

To submit comments: | Send them to:
By e-mail | pubcomment-ees.enrd@usdoj.gov.
By mail | Assistant Attorney General, Re: Comments D.J. Ref. No. 90-5-2-1-10311, U.S. DOJ-ENRD, P.O. Box 7611, Washington, DC 20044-7611.

During the public comment period, the Consent Decree may be examined and downloaded at this Justice Department Web site: http://www.justice.gov/enrd/Consent_Decrees.html. We will provide a paper copy of the Consent Decree upon written request and payment of reproduction costs. Please mail your request and payment to: Consent Decree Library, U.S. DOJ-ENRD, P.O. Box 7611, Washington, DC 20044-7611.

Please enclose a check or money order for $25.25 (25 cents per page reproduction cost) payable to the United States Treasury. For a paper copy of the Consent Decree without the attachments, which may be alternatively requested, the cost is $20.50.

Thomas P. Carroll,
Assistant Chief, Environmental Enforcement Section, Environment and Natural Resources Division.

[FR Doc. 2014-06597 Filed 3-25-14; 8:45 am]

BILLING CODE 4410-15-P